ENVIRONMENTAL PROTECTION AGENCY

[EPA-HQ-OA-2007-0706; FRL-9924-59-OEI]

Information Collection Request Submitted to OMB for Review and Approval; Comment Request; State Small Business Stationary Source Technical and Environmental Compliance Assistance Programs (SBTCP) Annual Reporting Form (Renewal)

AGENCY: Environmental Protection Agency (EPA).

ACTION: Notice.

SUMMARY: The Environmental Protection Agency has submitted an information collection request (ICR), “State Small Business Stationary Source Technical and Environmental Compliance Assistance Programs (SBTCP) Annual Reporting Form (Renewal)” (EPA ICR No. 1748.10, OMB Control No. 2060-0337) to the Office of Management and Budget (OMB) for review and approval in accordance with the Paperwork Reduction Act (44 U.S.C. 3501 et seq.). This is a proposed extension of the ICR, which is currently approved through May 31, 2015. Public comments were previously requested via the Federal Register (79 FR 73576) on December 11, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before May 28, 2015.

ADDRESSES: Submit your comments, referencing Docket ID Number EPA-HQ-OA-2007-0706, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Paula Hoag, Office of Small Business Programs, (1230A), Environmental Protection Agency, 1200 Pennsylvania Ave. NW., Washington, DC 20460; telephone number: 202-566-2496; fax number 202-566-0266; email address: hoag.paula@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: As part of the Clean Air Act Amendments of 1990, the U.S. Congress required that each state establish a Small Business Stationary Source Technical and Environmental Compliance Assistance Program to assist small business in compliance with the Act. These programs are generally known as Small Business Environmental Assistance Programs (SBEAPs). EPA's Small Business Ombudsman must oversee the overall 507 program and be able to provide the Congress with periodical reports on the effectiveness, difficulties encountered and other relevant information about the program. Each state will submit requested information to EPA for compilation and summarization. This collection of information will assist the EPA Ombudsman with its requirement to monitor the effectiveness of small businesses as authorized under section 507(a), (d) and (e) of the Clean Air Act as amended in 1990, Public Law 101-549, November 15, 1990. Information that is collected is aggregated and is not of a confidential nature. None of the information collected by this action results in/or requests sensitive information of any nature from the states.

Form Numbers: 6500-03.

Respondents/affected entities: State and/or state appointed entities of the 507 program.

Respondent's obligation to respond: Mandatory (section 507, parts (a), (d) and (e)).

Estimated number of respondents: 53 (total).

Frequency of response: Annual.

Total estimated burden: 2,120 hours (per year). Burden is defined at 5 CFR 1320.03(b).

Total estimated cost: $112,106 (per year), includes $0 annualized capital or operation & maintenance costs.

Changes in the Estimates: There is no change of hours in the total estimated respondent burden compared with the ICR currently approved by OMB.

Courtney Kerwin,
Acting Director, Collection Strategies Division.

[FR Doc. 2015-09853 Filed 4-27-15; 8:45 am]

BILLING CODE 6560-50-P